DEPARTMENT OF TRANSPORTATION

[Docket: RSPA-98-4957]

Request for Extension of Existing Information Collection

AGENCY: Research and Special Programs Administration, DOT.

ACTION: Notice and request for public comments.

SUMMARY: In accordance with the Paperwork Reduction Act of 1995, this notice announces the Research and Special Programs Administration's (RSPA) intention to request extension of an information collection in support of the Office of Pipeline Safety (OPS) for Response Plans for Onshore Oil Pipelines. (approval number 2137-0589.) Operators are invited to submit comments on whether collecting information on response plans for onshore oil pipelines is burdensome, and other factors explained in the body of this notice.

DATES: Comments on this notice must be received by December 2, 2002 to be assured of consideration.

ADDRESSES: Copies of this information collection can be reviewed at the Dockets Facility, Plaza 401, U.S. Department of Transportation, 400 Seventh St., SW., Washington, DC 20590, Monday to Friday from 10 a.m. to 4 p.m. excluding Federal holidays. Comments can be reviewed electronically on the worldwide web at dms.dot.gov.

FOR FURTHER INFORMATION CONTACT: Marvin Fell, Office of Pipeline Safety, Research and Special Programs Administration, Department of Transportation, 400 Seventh Street, SW., Washington, DC 20950, (202) 366-6205 or by electronic mail at Marvin.fell@rspa.dot.gov.

SUPPLEMENTARY INFORMATION: Title: Response Plans for Onshore Oil Pipelines.

OMB Number: 2137-0589.

Type of Request: Extension of an existing information collection.

Abstract: The Oil Pollution Act of 1990 (OPA 90) requires that operators of onshore oil pipelines develop response plans to minimize the impact of an oil discharge in the case of an accident. These response plans enhance the spill response capability of pipeline operators. Operators may submit their plan electronically or in hard copy.

Respondents: Oil Pipeline operators.

Estimated Number of Respondents: 233.

Hours per Operator or Respondent: 127.8.

Estimated Total Annual Burden on Respondents: 29,780 hours annually.

Frequency: Every five years.

Use: To enhance response capability in the event of an oil spill.

Regulation or Subpart: 49 CFR part 194.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques. Send written comments in duplicate to Dockets Facility, Plaza 401, U.S. Department of Transportation, 400 Seventh St., SW., Washington, DC 20590. Please include the docket number in your comments. Comments can also be sent electronically to dms.dot.gov.

All responses to this notice will be summarized and included in the request for OMB approval. All comments will also be a matter of public record.

Issued in Washington, DC, on September 26, 2002.
Jeffrey D. Wiese,
Manager, Program Development, Office of Pipeline Safety.

[FR Doc. 02-25045 Filed 10-1-02; 8:45 am]

BILLING CODE 4910-60-P